DEPARTMENT OF HOMELAND SECURITY

Federal Emergency Management Agency

44 CFR Part 65

[Docket No. FEMA-B-7703]

Changes in Flood Elevation Determinations

AGENCY: Federal Emergency Management Agency, DHS.

ACTION: Interim rule; removal.

SUMMARY: The Federal Emergency Management Agency (FEMA) removes the interim change in flood elevation determination published at 72 FR 271 on January 4, 2007 for the Unincorporated areas of Frederick County, Maryland, Case No. 06-03-B384P, Community Number 240027.

EFFECTIVE DATE: This rule is effective June 7, 2007.

FOR FURTHER INFORMATION CONTACT: William R. Blanton, Jr., Engineering Management Section, Mitigation Directorate, Federal Emergency Management Agency, 500 C Street, SW., Washington, DC 20472, (202) 646-3151.

SUPPLEMENTARY INFORMATION: On October 19, 2006, FEMA issued a Letter of Map Revision (LOMR) revising the Unincorporated areas of Frederick County, Maryland Flood Insurance Study (FIS) report and Flood Insurance Rate Map (FIRM), Case No. 06-03-B384P. In addition, the October 19, 2006 LOMR proposed base flood elevations along Ballenger Creek and Tributary No. 117 through a statutory 90-day appeal period and established an effective date of February 15, 2007. During the 90-day appeal period, FEMA received an appeal submitted by a property owner located within the revised area. After further investigation, it was found that the aforementioned flooding sources had been revised for the countywide map revision for Frederick County, Maryland, currently scheduled to go into effect in September 2007. When comparing the LOMR modeling to the countywide restudy, it was determined that the modeling for the countrywide restudy more accurately represented existing conditions. Therefore, the LOMR has been rescinded to eliminate the potential of incorrect flood insurance determinations along the revised flooding sources.

Accordingly, the interim change in flood elevation determination published at 72 FR 271 on January 4, 2007 for the Unincorporated areas of Frederick County, Maryland, Case No. 06-03-B384P, Community No. 240027, is hereby removed.

This matter is not a rulemaking governed by the Administrative Procedure Act (APA), 5 U.S.C. 553. FEMA voluntarily publishes flood elevation determinations for notice and comment, however, they are governed by the Flood Disaster Protection Act of 1973, 42 U.S.C. 4105, and the National Flood Insurance Act of 1968, 42 U.S.C. 4001 et seq., and do not fall under the APA. If APA applicability is contested, however, FEMA asserts, for the reasons stated above, that it has good cause to issue this removal immediately, and without prior notice and opportunity to comment, because delaying implementation of this action to await public notice and comment is unnecessary, impracticable, and contrary to the public interest.

National Environmental Policy Act. This rule is categorically excluded from the requirements of 44 CFR part 10, Environmental Consideration. No environmental impact assessment has been prepared.

Regulatory Flexibility Act. As flood elevation determinations are not within the scope of the Regulatory Flexibility Act, 5 U.S.C. 601-612, a regulatory flexibility analysis is not required.

Regulatory Classification. This rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 65

Administrative practice and procedure, Flood insurance, Reporting and recordkeeping requirements.

Accordingly, 44 CFR part 65 is amended as follows:

PART 65—[AMENDED]

1. The authority citation for part 65 continues to read as follows:

Authority: 42 U.S.C. 4001 et seq.; Reorganization Plan No. 3 of 1978, 43 FR 41943, 3 CFR, 1978 Comp., p. 329; E.O. 12127 of Mar. 31, 1979, 44 FR 19367, 3 CFR, 1979 Comp., p. 376.

§ 65.4 [Amended]

2. The table published at 72 FR 271 on January 4, 2007 under the authority of § 65.4 is amended to remove the following:

The interim change in flood elevation determination published at 72 FR 271 on January 4, 2007 for the Unincorporated areas of Frederick County, Maryland, Case No. 06-03-B384P, Community No. 240027.

Dated: May 24, 2007.
David I. Maurstad,
Federal Insurance Administrator of the National Flood Insurance Program, Federal Emergency Management Agency, Department of Homeland Security.

[FR Doc. E7-10951 Filed 6-6-07; 8:45 am]

BILLING CODE 9110-12-P